DEPARTMENT OF ENERGY

Federal Energy Regulatory Commission

[Docket Nos. CP11-67-000; PF10-21-000]

Texas Eastern Transmission, LP; Notice of Application

Take notice that on January 25, 2011, Texas Eastern Transmission, LP (Texas Eastern), 5400 Westheimer Court, Houston, Texas 77056, filed in the above referenced docket an application under sections 7(b) and 7(c) of the Natural Gas Act (NGA) for its proposed TEAM 2012 Project. Specifically, Texas Eastern requests: (i) Authorization under NGA sections 7(b) and 7(c) to construct, own, operate, and maintain certain pipeline and compression facilities and related appurtenances and to abandon in place certain compression facilities necessary to increase capacity on the Texas Eastern system by approximately 190,000 dekatherms per day (Dth/d) from supply points in Clarington, Ohio and the Appalachian area to proposed interconnections in central and eastern Pennsylvania; (ii) authority to charge initial incremental recourse rates for firm service on the TEAM 2012 Project facilities and existing system rates for interruptible service on such facilities; and (iii) any waivers, authority, and further relief as may be necessary to implement the proposal contained in its application. Texas Eastern estimates its TEAM 2012 project to cost $204,471,000, all as more fully set forth in the application. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Texas Eastern requests that the Commission grant the requested authorizations and related approvals on or before October 31, 2011 to ensure that the TEAM 2012 Project is on-line by November 1, 2012, in time to meet the service needs of the TEAM 2012 shippers and to ensure that additional capacity is available at the earliest possible time to facilitate the transportation of new supplies, including Rocky Mountain supplies and supplies from the emerging Marcellus shale play.

Any questions regarding this Application should be directed to Berk Donaldson, Director, Rates and Certificates, Texas Eastern Transmission, LP, P.O. Box 1642, Houston, Texas 77251-1642, by phone: (713) 627-4488 or by fax: (713) 627-5947.

On June 28, 2010, the Commission staff granted Texas Eastern's request to utilize the National Environmental Policy Act (NEPA) Pre-Filling Process and assigned Docket Number PF10-21-000 to staff activities involving the TEAM 2012 Project. Now, as of the filing Texas Eastern's application on January 25, 2011, the NEPA Pre-Filling Process for this project has ended. From this time forward, Texas Eastern's proceeding will be conducted in Docket No. CP11-67-000, as noted in the caption of this Notice.

Pursuant to section 157.9 of the Commission's rules, 18 CFR 157.9, within 90 days of this Notice the Commission staff will either: complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify Federal and State agencies of the timing for the completion of all necessary reviews, and the subsequent need to complete all Federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 7 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 14 copies of the protest or intervention to the Federal Energy regulatory Commission, 888 First Street, NE., Washington, DC 20426.

Comment Date: February 28, 2011.

Dated: February 07, 2011.
Kimberly D. Bose,
Secretary.

[FR Doc. 2011-3160 Filed 2-10-11; 8:45 am]

BILLING CODE 6717-01-P